DEPARTMENT OF ENERGY

Federal Energy Regulatory Commission

Combined Notice of Filings #1

Take notice that the Commission received the following electric corporate filings:

Docket Numbers: EC13-62-000.

Applicants: FPL Energy Maine Hydro LLC, Brookfield Power US Holding America Co.

Description: Joint Application For Authorization Under Section 203 Of The Federal Power Act And Request For Confidential Treatment of FPL Energy Maine Hydro LLC and Brookfield Power US Holding America Co.

Filed Date: 1/14/13.

Accession Number: 20130114-5233.

Comments Due: 5 p.m. ET 2/4/13.

Take notice that the Commission received the following exempt wholesale generator filings:

Docket Numbers: EG13-11-000.

Applicants: Carson Cogeneration Company, LP.

Description: Self-Certification of EWG Status Carson Cogeneration Company, LP.

Filed Date: 1/14/13.

Accession Number: 20130114-5038.

Comments Due: 5 p.m. ET 2/4/13.

Take notice that the Commission received the following electric rate filings:

Docket Numbers: ER10-2333-001; ER10-2334-001; ER12-1238-001; ER10-2336-001; ER10-2335-001; ER10-2337-001; ER10-2338-001; ER10-2339-001; ER10-2340-001; ER12-1239-001; ER10-2341-001; ER10-2342-001; ER10-2385-001; ER10-2344-001; ER10-2346-001; ER10-2347-001; ER10-2348-001; ER10-2350-001; ER10-2351-001; ER10-2368-001; ER10-2352-001; ER10-2353-001; ER10-2354-001; ER10-2355-001; ER10-2384-002; ER10-2383-002; ER11-2107-001; ER11-2108-001; ER11-4351-001; ER10-2382-001; ER10-2356-001; ER10-2357-001; ER10-1355-002; ER10-2358-001; ER10-2359-001; ER10-2360-001; ER10-2369-001; ER10-2381-001; ER10-2575-001; ER10-2361-001; ER10-2362-001; ER10-2363-001; ER10-2364-001; ER10-2365-001; ER10-2366-001; ER10-2367-001.

Applicants: Edison Mission Marketing & Trading, Inc., Bendwind, LLC, Big Sky Wind, LLC, DeGreeff DP, LLC, DeGreeffpa, LLC, CL Power Sales Eight, L.L.C., CP Power Sales Nineteen, L.L.C., CP Power Sales Seventeen, L.L.C., CP Power Sales Twenty, L.L.C., Crofton Bluffs Wind, LLC, Edison Mission Solutions, LLC, Elkhorn Ridge Wind, LLC, EME Homer City Generation L.P., Forward WindPower LLC, Groen Wind, LLC, High Lonesome Mesa, LLC, Hillcrest Wind, LLC, Jeffers Wind 20, LLC, Laredo Ridge Wind, LLC, Larswind, LLC, Midway-Sunset Cogeneration Company, Midwest Generation LLC, Mountain Wind Power LLC, Mountain Wind Power II LLC, North Community Turbines LLC, North Wind Turbines LLC, Pinnacle Wind, LLC, San Juan Mesa Wind Project, LLC, Sierra Wind, LLC, Sleeping Bear, LLC, Southern California Edison Company, Storm Lake Power Partners I LLC, Sunrise Power Company, LLC, TAIR Windfarm, LLC, Taloga Wind, LLC, Walnut Creek Energy, LLC, Watson Cogeneration Company, Wildorado Wind, LLC, Coalinga Cogeneration Company, Kern River Cogeneration Company, Mid-Set Cogeneration Company, Salinas River Cogeneration Company, Sargent Canyon Cogeneration Company, Sycamore Cogeneration Company, Lookout WindPower, LLC.

Description: Notice of Non-Material Change in Status of Edison Mission Marketing & Trading, Inc., et al.

Filed Date: 1/14/13.

Accession Number: 20130114-5227.

Comments Due: 5 p.m. ET 2/4/13.

Docket Numbers: ER10-2719-012; ER10-2718-012; ER10-2578-014; ER10-2633-012; ER10-2570-012; ER10-2717-012; ER10-3140-011.

Applicants: East Coast Power Linden Holding, L.L.C., Cogen Technologies Linden Venture, L.P., Fox Energy Company LLC, Birchwood Power Partners, L.P., Shady Hills Power Company, L.L.C., EFS Parlin Holdings, LLC, Inland Empire Energy Center, LLC.

Description: Notice of Non-material Change in Status of East Coast Power Linden Holding, L.L.C., et al.

Filed Date: 1/14/13.

Accession Number: 20130114-5240.

Comments Due: 5 p.m. ET 2/4/13.

Docket Numbers: ER10-3301-001; ER10-2757-001; ER10-2756-001.

Applicants: GWF Energy LLC, Arlington Valley, LLC, Griffith Energy LLC.

Description: Notice of Change in Status under Market Based Authority, et al. of GWF Energy LLC, et al.

Filed Date: 1/14/13.

Accession Number: 20130114-5223.

Comments Due: 5 p.m. ET 2/4/13.

Docket Numbers: ER11-4050-001; ER11-4027-002; ER11-4028-002.

Applicants: Cogentrix of Alamosa, LLC, Portsmouth Genco, LLC, James River Genco, LLC.

Description: Notice of Non-Material Change in Status of Cogentrix of Alamosa, LLC, et al.

Filed Date: 1/14/13.

Accession Number: 20130114-5239.

Comments Due: 5 p.m. ET 2/4/13.

Docket Numbers: ER11-4507-003; ER11-4501-004; ER12-128-001; ER11-4500-003; ER12-979-002; ER11-4498-003; ER11-4499-003.

Applicants: Caney River Wind Project, LLC, Rocky Ridge Wind Project, LLC, Smoky Hills Wind Farm, LLC, Smoky Hills Wind Project II, LLC, EGP Stillwater Solar, LLC, Enel Stillwater, LLC, Canastota Windpower, LLC.

Description: Notice of Change in Status of Smokey Hills Wind Farm, LLC, et al.

Filed Date: 1/14/13.

Accession Number: 20130114-5231.

Comments Due: 5 p.m. ET 2/4/13.

Docket Numbers: ER12-2448-002.

Applicants: Chisholm View Wind Project, LLC.

Description: Notice of Change in Status of Chisholm View Wind Project, LLC.

Filed Date: 1/14/13.

Accession Number: 20130114-5230.

Comments Due: 5 p.m. ET 2/4/13.

Docket Numbers: ER13-504-000; ER13-513-000.

Applicants: Electricity NH, LLC.

Description: Electricity NH, LLC resubmits Application for Market-Based Rate Authority.

Filed Date: 1/11/13.

Accession Number: 20130111-5194.

Comments Due: 5 p.m. ET 2/1/13.

Docket Numbers: ER13-737-001.

Applicants: PJM Interconnection, L.L.C.

Description: Errata to Notice of Cancellation 2nd Rev. SA Nos. 3154 and 3155—ER12-2503-000 to be effective 11/27/2012.

Filed Date: 1/14/13.

Accession Number: 20130114-5065.

Comments Due: 5 p.m. ET 2/4/13.

Docket Numbers: ER13-755-000.

Applicants: Southwest Power Pool, Inc.

Description: 2502 Osage Wind/OG&E Facilities Construction Agreement to be effective 1/14/2013.

Filed Date: 1/14/13.

Accession Number: 20130114-5057.

Comments Due: 5 p.m. ET 2/4/13.

Docket Numbers: ER13-756-000.

Applicants: Southwest Power Pool, Inc.

Description: 2482 KCPL & Westar Energy Interconnection/Interchange Agreement to be effective 12/1/2012.

Filed Date: 1/14/13.

Accession Number: 20130114-5061.

Comments Due: 5 p.m. ET 2/4/13.

Docket Numbers: ER13-757-000.

Applicants: Northern States Power Company, a Wisconsin corporation.

Description: 2013_01_14_NSPW CDTT ACIF 2nd POI-131 to be effective 12/5/2012.

Filed Date: 1/14/13.

Accession Number: 20130114-5069.

Comments Due: 5 p.m. ET 2/4/13.

Docket Numbers: ER13-758-000.

Applicants: Enel Stillwater, LLC.

Description: Enel Stillwater, LLC Notice of Change in Status re MBR Tariff to be effective 12/5/2008.

Filed Date: 1/14/13.

Accession Number: 20130114-5151.

Comments Due: 5 p.m. ET 2/4/13.

Docket Numbers: ER13-759-000.

Applicants: EGP Stillwater Solar, LLC.

Description: EGP Stillwater Solar, LLC Notice of Change in Status re MBR Tariff to be effective 11/15/2011.

Filed Date: 1/14/13.

Accession Number: 20130114-5154.

Comments Due: 5 p.m. ET 2/4/13.

Docket Numbers: ER13-760-000.

Applicants: Canastota Windpower, LLC.

Description: Canastota Windpower, LLC Notice of Change in Status re MBR Tariff to be effective 10/20/2001.

Filed Date: 1/14/13.

Accession Number: 20130114-5155.

Comments Due: 5 p.m. ET 2/4/13.

Docket Numbers: ER13-761-000.

Applicants: Arizona Public Service Company.

Description: Revised and Amended OMR between APS and Electric District 3 to be effective 11/1/2012.

Filed Date: 1/14/13.

Accession Number: 20130114-5171.

Comments Due: 5 p.m. ET 2/4/13.

Take notice that the Commission received the following public utility holding company filings:

Docket Numbers: PH13-8-000.

Applicants: GE COMPANIES.

Description: The GE Companies submit Form FERC-65A Revised Exemption Notification.

Filed Date: 1/14/13.

Accession Number: 20130114-5229.

Comments Due: 5 p.m. ET 2/4/13.

Docket Numbers: PH13-9-000.

Applicants: Bloom Energy Corporation.

Description: Bloom Energy Corporation, et al. submits FERC-65-B Waiver Notification.

Filed Date: 1/14/13.

Accession Number: 20130114-5236.

Comments Due: 5 p.m. ET 2/4/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 15, 2013.
Nathaniel J. Davis, Sr.,
Deputy Secretary.

[FR Doc. 2013-01368 Filed 1-23-13; 8:45 am]

BILLING CODE 6717-01-P